DEPARTMENT OF HOUSING AND URBAN DEVELOPMENT

[Docket No. FR-5415-N-38]

Notice of Availability: Notice of Funding Availability for HUD's Fiscal Year (FY) 2010 Section 202 Supportive Housing for the Elderly Program

AGENCY: Office of the Chief Human Capital Officer, HUD.

ACTION: Notice.

SUMMARY: HUD announces the availability on its Web site of the applicant information, submission deadlines, funding criteria, and other requirements for HUD's FY2010 Section 202 NOFA. Approximately $371 million in capital advance funds, plus associated project rental assistance contract (PRAC) funds is made available through this NOFA, by the Consolidated Appropriations Act, 2010 (Pub. L. 111-117, approved December 16, 2009). The Section 202 program provides funding for the development and operation of supportive housing for very low-income persons 62 years of age or older. Applicants planning to submit an application in response to this NOFA should also review HUD's Fiscal Year 2010 Notice of Funding Availability (NOFA) Policy Requirements and General Section that HUD posted on June 7, 2010 (FR 5415-N-01) for program thresholds and additional information and instructions to assist in submitting an application.

The notice providing information regarding the application process, funding criteria and eligibility requirements can be found using the Department of Housing and Urban Development agency link on the Grants.gov/Find Web site at http://www.grants.gov/search/agency.do. A link to Grants.gov is also available on the HUD Web site at http://www.hud.gov/offices/adm/grants/fundsavail.cfm.

The Catalogue of Federal Domestic Assistance (CFDA) number for this program is 14.157, Section 202 Supportive Housing for the Elderly. Applications must be submitted electronically through Grants.gov.

FOR FURTHER INFORMATION CONTACT: Questions regarding specific program requirements should be directed to the agency contact identified in the program NOFA. Program staff will not be available to provide guidance on how to prepare the application. Questions regarding the 2010 General Section should be directed to the Office of Grants Management and Oversight at (202) 708-0667 or the NOFA Information Center at 800-HUD-8929 (toll free). Persons with hearing or speech impairments may access these numbers via TTY by calling the Federal Information Relay Service at 800-877-8339.

Dated: March 8, 2011.
Barbara S. Dorf,
Director, Office of Departmental Grants Management and Oversight, Office of the Chief Human Capital Officer.

[FR Doc. 2011-5692 Filed 3-10-11; 8:45 am]

BILLING CODE 4210-67-P